COMMISSION ON CIVIL RIGHTS

Agenda and Notice of Public Meeting of the Arizona State Advisory Committee

Notice is hereby given, pursuant to the provisions of the rules and regulations of the U.S. Commission on Civil Rights (Commission), and the Federal Advisory Committee Act (FACA), that a planning meeting of the Arizona Advisory Committee to the Commission will convene by conference call at 2 p.m. Mountain Standard Time on March 3, 2008. The purpose of the meeting is to plan future activities.

This meeting is available to the public through the following toll-free call-in number: Dialing 1-866-349-3556, access code: 34933357. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and access code.

To ensure that the Commission secures an appropriate number of lines for the public, persons are asked to register by contacting Angelica Trevino at the Commission's Western Regional Office, (213) 894-3437, by 3 p.m., Pacific Standard Time, on Friday, February 29, 2008.

Members of the public are entitled to submit written comments. The comments must be received in the regional office by April 3, 2008. The address is 300 N. Los Angeles St., Suite 2010, Los Angeles, CA 90012. Comments may be e-mailed to atrevino@usccr.gov. Records generated by this meeting may be inspected and reproduced at the Western Regional Office, as they become available, both before and after the meeting. Persons interested in the work of this advisory committee are advised to go to the Commission's Web site, http://www.usccr.gov, or to contact the Western Regional Office at the above e-mail or street address.

The meeting will be conducted pursuant to the provisions of the rules and regulations of the Commission and FACA.

Dated in Washington, DC, February 14, 2008.
Christopher Byrnes,
Chief, Regional Programs Coordination Unit.

[FR Doc. E8-3134 Filed 2-19-08; 8:45 am]

BILLING CODE 6335-01-P